DEPARTMENT OF AGRICULTURE

Forest Service

Commencement of 90-Day Comment Period on the Proposed Land Management Plans for the Bitterroot, Flathead and Lolo National Forests

AGENCY: Forest Service, USDA.

SUMMARY: Proposed Land Management Plans for the Bitterroot, Flathead and Lolo National Forests are now available for public comment during a 90-day period that begins on the date of publication of this notice in the following newspapers of record: For the Bitterroot Forest, The Ravalli Republic; for the Flathead Forest, The Daily Interlake; and for the Lolo Forest, The Missoulian.

ADDRESSES: Comments should be sent to: Proposed Land Management Plan, Bitterroot National Forest, 1801 North 1st St., Hamilton, MT 59840. Comments by e-mail should be sent to: wmpz@fs.fed.us.

DATES: Submit comments during the 90-day period that begins on the date of publication of this notice in the following newspapers of record: For the Bitterroot Forest, The Ravalli Republic; for the Flathead Forest, The Daily Interlake; and for the Lolo Forest, The Missoulian.

FOR FURTHER INFORMATION CONTACT: Claudia Narcisco, 406-329-3802.

SUPPLEMENTARY INFORMATION: Pursuant to 36 CFR 219.9(b)(2), the Bitterroot, Flathead and Lolo National Forests are commencing the comment period on their Proposed Forest Land Management Plans. The Plans are available for viewing and downloading at the Web site: http://www.fs.fed.us/r1/wmpz. CD (Compact Disk) copies of the Plans will be mailed to persons on our current mailing list and are available to others on request. Plans are also available for viewing at Supervisors Offices and Ranger Stations on the Bitterroot, Flathead and Lolo National Forests. Supporting documentation of analysis procedures and findings will be posted on the Web site and is available upon request.

Comments should be in writing and should meet the following requirements:

1. A statement that the comment is filed during the 90-day comment period, in response to the Western Montana Zone Proposed Forest Land Management Plans.

2. Identification of the specific Proposed Plan or Plans (Bitterroot, Lolo, Flathead) that your comment is addressing.

3. A clear statement of your comment, including reasons, recommendations and supporting information.

Additional guidelines for preparing comments are included with each Proposed Plan.

Scheduled meetings and details of other public involvement opportunities will be posted on the Western Montana Planning zone Web site: http://www.fs.fed.us/r1/wmpz.

The opportunity to object to the Final Plan will be during a 30-day objection period before Plan approval (36 CFR 219.13(a)). Any person or organization, other than a federal agency, who participated in the planning process through the submission of written comments, may object to a plan.

Please note that all comments, names, and addresses become part of the public record and are subject to the Freedom of Information Act, except for proprietary documents and information.

Dated: April 28, 2006.
David T. Bull,
Forest Supervisor, Bitterroot National Forest.
Catherine Barbouletos,
Forest Supervisor, Flathead National Forest.
Deborah L.R. Austin,
Forest Supervisor, Lolo National Forest.

[FR Doc. 06-4285 Filed 5-8-06; 8:45 am]

BILLING CODE 3410-11-M